DEPARTMENT OF HEALTH AND HUMAN SERVICES

National Institutes of Health

Translational Research Working Group Public Comment Period; Correction Notice

The National Cancer Institute (NCI) of the National Institutes of Health published a notice soliciting public comment on the draft initiatives and implementation concepts proposed by the Translational Research Working Group (TRWG) in the Federal Register on October 23, 2006, 71 FR 62114-62115. The DATES caption errantly indicated that comments could be submitted through November 22, 2006. That date was incorrect. The DATES caption found on page 62115 of the notice should have read: “DATES: Parties interested in submitting comments on the draft initiatives should submit them to http://www.cancer.gov/trwg by November 3, 2006.”

Dated: October 26, 2006.
Ernest Hawk,
Director, Office of Centers, Training and Resources, National Cancer Institute, National Institutes of Health.

[FR Doc. E6-18351 Filed 10-31-06; 8:45 am]

BILLING CODE 4140-01-P